ENVIRONMENTAL PROTECTION AGENCY

[EPA-HQ-OPP-2016-0460; FRL-9951-12]

Agency Information Collection Activities; Proposed Renewal of an Existing Collection (EPA ICR No. 1249.11 and OMB Control No. 2070-0074); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Requirements for Certified Applicators Using 1080 Collars for Livestock Protection” and identified by EPA ICR No. 1249.11 and OMB Control No. 2070-0074, represents the renewal of an existing ICR that is scheduled to expire on May 31, 2017. Before submitting the ICR to OMB for review and approval, EPA is soliciting comments on specific aspects of the proposed information collection that is summarized in this document. The ICR and accompanying material are available in the docket for public review and comment.

DATES: Comments must be received on or before November 25, 2016.

ADDRESSES: Submit your comments, identified by docket identification (ID) number EPA-HQ-OPP-2016-0460, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Amaris Johnson, Field External Affairs Division (7506P), Office of Pesticide Programs, Environmental Protection Agency, 1200 Pennsylvania Ave. NW., Washington, DC 20460-0001; telephone number: (703) 305-9542; email address: johnson.amaris@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Information collection activity or ICR does this action apply to?

Title: Requirements for Certified Applicators Using 1080 Collars for Livestock Protection.

ICR number: EPA ICR No. 1249.11.

OMB control number: OMB Control No. 2070-0074.

ICR status: This ICR is currently scheduled to expire on May 31, 2017. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: The information in this ICR enables the agency to obtain information needed to track the use of registered Livestock Protection Collar products which contain solutions of Sodium Monofluoroacetate (Compound 1080). The mandatory record-keeping requirements for these Compound 1080 collars were imposed by an administrative judge in October 1982 and confirmed by the agency in 1983. It ensures the proper use and function of the 1080 collar products, and demonstrates there is no threat of unreasonable harm to non-target animals or people.

Burden statement: The annual public reporting and recordkeeping burden for this collection of information is estimated to average 40 hours per response for certified applicators and 77 hours per response for reporting agencies. Burden is defined in 5 CFR 1320.3(b).

The ICR, which is available in the docket along with other related materials, provides a detailed explanation of the collection activities and the burden estimate that is only briefly summarized here:

Respondents/Affected Entities: Entities potentially affected by this ICR are certified pesticide applicators that apply or hold inventory of 1080 collars, and the reporting agencies (state government, NAICS 999200) responsible for implementing and administering a 1080 collar monitoring program.

Estimated total number of potential respondents: 33.

Frequency of response: Annual.

Estimated total average number of responses for each respondent: 1 per year.

Estimated total annual burden hours: 1,431 hours.

Estimated total annual costs: $64,213. This includes an estimated burden cost of $64,213 and an estimated cost of $0 for capital investment or maintenance and operational costs.

III. Are there changes in the estimates from the last approval?

There is a decrease of 513 hours in the total estimated respondent burden compared with that identified in the ICR currently approved by OMB. This decrease reflects voluntary cancellation of the 1080 Livestock Protection Collar registration formerly held by the South Dakota Department of Agriculture and the removal of estimated burden associated with submission of annual Livestock Protection Collar production reports erroneously included in the previous renewal of this ICR. This resulted in a corresponding decrease in the associated burden. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: September 16, 2016.
James Jones,
Assistant Administrator, Office of Chemical Safety and Pollution Prevention.

[FR Doc. 2016-23146 Filed 9-23-16; 8:45 am]

BILLING CODE 6560-50-P